SURFACE TRANSPORTATION BOARD

[Docket No. FD 36373]

Atlantic Railways Co. LLC, d/b/a Atlantic Railways—Change in Operator Exemption—Foxville and Northern Railroad Company, LLC

Atlantic Railways Co. LLC, d/b/a Atlantic Railways (ATL), a noncarrier, has filed a verified notice of exemption under 49 CFR 1150.31 to permit ATL to acquire from Badin Business Park LLC (BBP) ¹ by assignment of lease and to operate approximately 11.11 miles of rail line from milepost WF-0.0 in Halls Ferry Junction, to milepost WF-11.11 in Badin, all in Stanly County, N.C. (the Line).² ATL states that it intends to interchange traffic with Winston Salem South Bound Railroad (WSSB) at milepost WF-5.90 in Whitney.

¹ ATL states that BBP is a wholly owned subsidiary of Alcoa, Inc., and that the Line was constructed to support operations for Alcoa, Inc.

² The verified notice states that the Line was previously leased and operated by Foxville and Northern Railroad Company LLC (FN), see Foxville & N. R.R.—Lease & Operation Exemption—Badin Bus. Park, LLC, FD 36151 (STB served Aug. 9, 2018), and that FN consents to the assignment to ATL.

ATL states that it anticipates entering into a lease assignment agreement with BBP on or about March 20, 2020, and an interchange agreement with WSSB upon obtaining operating authority.

ATL certifies that the transaction involves no provision or agreement that would limit future interchange with a third-party connecting carrier. ATL certifies that its projected annual revenues as a result of this transaction will not result in its becoming a Class II or Class I rail carrier and further certifies that its projected annual revenues will not exceed $5 million. Under 49 CFR 1150.32(b), a change in operator requires that notice be given to shippers. By supplement filed March 25, 2020, ATL certifies that notice of the change in operator was served on all shippers affected by this transaction.

The transaction may be consummated on or after April 24, 2020, the effective date of the exemption (30 days after the verified notice was filed).³

³ Although ATL initially submitted its verified notice on March 19, 2020, the date of its supplement is considered the filing date and the basis for all dates in this notice.

If the verified notice contains false or misleading information, the exemption is void ab initio. Petitions to revoke the exemption under 49 U.S.C. 10502(d) may be filed at any time. The filing of a petition to revoke will not automatically stay the effectiveness of the exemption. Petitions for stay must be filed no later than April 17, 2020 (at least seven days before the exemption becomes effective).

All pleadings, referring to Docket No. FD 36373, must be filed with the Surface Transportation Board either via e-filing or in writing addressed to 395 E Street SW, Washington, DC 20423-0001. In addition, a copy of each pleading must be served on ATL's representative, John E. Elkin, President, Atlantic Railways Co. LLC, P.O. Box 577, Pelion, SC 29123.

According to ATL, this action is categorically excluded from environmental review under 49 CFR 1105.6(c) and from historic preservation reporting requirements under 49 CFR 1105.8(b)(1).

Board decisions and notices are available at www.stb.gov.

Decided: April 6, 2020.
By the Board, Allison C. Davis, Director, Office of Proceedings.
Aretha Laws-Byrum,
Clearance Clerk.

[FR Doc. 2020-07567 Filed 4-9-20; 8:45 am]

BILLING CODE 4915-01-P